DEPARTMENT OF HEALTH AND HUMAN SERVICES

Centers for Disease Control and Prevention

Advisory Committee to the Director, Centers for Disease Control and Prevention

In accordance with section 10(a)(2) of the Federal Advisory Committee Act (Pub. L. 92-463), the Centers for Disease Control and Prevention (CDC) announces the following aforementioned committee meeting:

Time and Date: 9:30 a.m.-11 a.m., June 4, 2009.

Place: The teleconference call will originate at the Centers for Disease Control and Prevention in Atlanta, Georgia. Please see Supplementary Information for details on accessing the teleconference.

Status: Open to the public, teleconference access limited only by availability of telephone ports.

Purpose: The committee will provide advice to the Director, CDC on broad strategies and policy issues facing CDC.

Matters To Be Discussed: The committee will discuss and vote on recommendations regarding CDC Budget Challenges for Fiscal Year 2009 and beyond; discuss and vote on the updated recommendations from the National Biosurveillance Advisory Subcommittee; discuss and vote on the mission of the Health Disparities Subcommittee; discuss and vote on the Ethic Subcommittee's documents entitled, “Recommendation on Ethical Aspects of Compulsory Use of Travel Restriction Tools”; and “Requesting Department of Homeland Security Assistance for Control of Communicable Diseases: Standard Operating Procedures;” and discussion of the committee's charge, “Ethics Subcommittee Input on the Role of Social Determinants in Health Reform.”

Agenda items are subject to change as priorities dictate.

SUPPLEMENTARY INFORMATION: To participate in the teleconference, please dial 1-888-820-8958 and enter pass code 6034485.

FOR FURTHER INFORMATION CONTACT: Brad Perkins, M.D., M.B.A., Designated Federal Official, Advisory Committee to the Director, CDC, 1600 Clifton Road, NE., M/S D-14, Atlanta, Georgia 30333. Telephone 404-639-7000.

The Director, Management Analysis and Services Office, has been delegated the authority to sign Federal Register notices pertaining to announcements of meetings and other committee management activities, for both the Centers for Disease Control and Prevention and the Agency for Toxic Substances and Disease Registry.

Dated: May 13, 2009.
Elaine L. Baker,
Director, Management Analysis and Services Office, Centers for Disease Control and Prevention.

[FR Doc. E9-11599 Filed 5-18-09; 8:45 am]

BILLING CODE 4163-18-P